FEDERAL DEPOSIT INSURANCE CORPORATION

Sunshine Act Meeting

Pursuant to the provisions of the “Government in the Sunshine Act” (5 U.S.C. 552b), notice is hereby given that the Federal Deposit Insurance Corporation's Board of Directors met in open session at 10:00 a.m. on Tuesday, October 21, 2014, to consider the following matters:

Summary Agenda

Disposition of minutes of previous Board of Directors' Meetings.

Memorandum and resolution re: Proposed Rule to Revise 12 CFR Part 340, “Restrictions on Sales of Assets by the Federal Deposit Insurance Corporation”.

Memorandum and resolution re: Joint Notice of Proposed Rulemaking for the Purpose of Implementing the Escrow Requirements of the Homeowner Flood Insurance Affordability Act.

Memorandum and resolution re: Notice of Proposed Rulemaking Regarding the Retention of Records of a Covered Financial Company and of the FDIC as Receiver pursuant to the Dodd-Frank Act.

Memorandum and resolution re: Designated Reserve Ratio for 2015.

Memorandum and resolution re: Final Rule regarding Part 390 Subpart U and Part 335—Securities of State Nonmember Banks and State Savings Associations.

Summary reports, status reports, reports of the Office of Inspector General, and reports of actions taken pursuant to authority delegated by the Board of Directors.

Discussion Agenda

Memorandum and resolution re: Final Rule: Credit Risk Retention.

Briefing re: Update of Projected Deposit Insurance Fund Losses, Income, and Reserve Ratios for the Restoration Plan.

In calling the meeting, the Board determined, on motion of Vice Chairman Thomas M. Hoenig, seconded by Director Richard Cordray (Director, Consumer Financial Protection Bureau), concurred in by Director Thomas J. Curry (Comptroller of the Currency), Director Jeremiah O. Norton (Appointive), and Chairman Martin J. Gruenberg, that Corporation business required its consideration of the matters on less than seven days' notice to the public; and that no earlier notice of the meeting than that previously provided on October 16, 2014, was practicable.

The meeting was held in the Board Room temporarily located on the fourth floor of the FDIC Building located at 550 17th Street NW., Washington, DC.

Dated: October 21, 2014.
Federal Deposit Insurance Corporation.
Robert E. Feldman,
Executive Secretary.

[FR Doc. 2014-25340 Filed 10-21-14; 4:15 pm]

BILLING CODE 6714-01-P